DEPARTMENT OF TRANSPORTATION

Federal Railroad Administration

[Docket Number FRA-2013-0031]

Petition for Waiver of Compliance

In accordance with Part 211 of Title 49 Code of Federal Regulations (CFR), this document provides the public notice that by an undated document, which was received by the Federal Railroad Administration (FRA) on March 26, 2013, the North Shore Railroad Company (NSHR) has petitioned FRA for a waiver of compliance from certain provisions of the Federal railroad safety regulations contained at 49 CFR part 215, Railroad Freight Car Safety Standards. FRA assigned the petition Docket Number FRA-2013-0031.

Specifically, NSHR seeks exemption from the requirements for stenciling of restricted cars described in 49 CFR 215.203(a) that are set forth in 49 CFR 215.303 for its caboose, Car Number NSHR 61312 (NSHR 61312).

NSHR states that stenciling the caboose to meet the requirements of Part 215 would detract from the historical and educational impression that this car is intended to preserve. NSHR further states that NSHR 61312 was built in 1952 and has Type 1 FRA glazing at all window locations with a sound car body, including ABDX service and ABDX emergency airbrakes. NSHR 61312 also has 5½ x 10 roller bearings with 33-inch wheels.

NSHR plans to operate NSHR 61312 in excursion, VIP, and shipper service on approximately 170 miles of track that is owned by the Susquehanna Economic Development Authority-Council of Governments' (SEDA-COG) Joint Rail Authority. Rail lines of the SEDA-COG Joint Rail Authority over which NSHR 61312 will operate include the Nittany & Bald Eagle Railroad (72 miles), the Lycoming Valley Railroad (34 miles), the North Shore Railroad (38 miles), and the Shamokin Valley Railroad (25 miles). NSHR will also operate NSHR 61312 in excursion, VIP, and shipper service on approximately 15 miles of track on the Union County Industrial Railroad. The West Shore Railroad Corporation owns approximately 5 miles on the Milton Branch and the Lewisburg & Buffalo Creek Railroad owns approximately 10 miles on the Winfield Branch.

NSHR 61312 will be operated at a maximum timetable track speed authorized by all of the railroads listed above, not to exceed 50 mph.

As information, NSHR also requests a Special Approval to continue NSHR 61312 in service in accordance with 49 CFR 205.203(c).

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 28, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on May 8, 2013.
Robert C. Lauby,
Deputy Associate Administrator for Regulatory and Legislative Operations.

[FR Doc. 2013-11432 Filed 5-13-13; 8:45 am]

BILLING CODE 4910-06-P